DEPARTMENT OF ENERGY

Federal Energy Regulatory Commission

[Project No. 2601-077]

Northbrook Carolina II, LLC; Notice of Availability of Final Environmental Assessment

In accordance with the National Environmental Policy Act of 1969 and the Federal Energy Regulatory Commission's (Commission or FERC) regulations, 18 CFR part 380, Commission staff reviewed Northbrook Carolina II, LLC (licensee) application for surrender of the license for the Bryson Hydroelectric Project No. 2601 and have prepared an Environmental Assessment (EA) for the proposed surrender.¹ The licensee proposes to surrender the license via severing its interconnection with the grid and leaving the dam in place and operational under the regulation of the North Carolina Division of Environmental Quality State Dam Safety Engineer with the reservoir elevation and discharge remaining the same as previous operations. The Bryson Project consists of a multiple arch dam with multiple spillway and overflow sections, a 38-acre reservoir, and two vertical Francis-type generating units located on the Oconaluftee River in Swain County, North Carolina. The project does not occupy any Federal lands.

¹ In accordance with the Council on Environmental Quality's regulations, the unique identification number for documents relating to this environmental review is EAXX-019-20-000-1726749058. 40 CFR 1501.5(c)(4) (2024).

The final EA contains Commission staff's analysis of the potential environmental effects of the proposed surrender, alternatives to the proposed action, and concludes that the proposed surrender, with appropriate environmental protective measures, would not constitute a major Federal action that would significantly affect the quality of the human environment.

The final EA may be viewed on the Commission's website at http://www.ferc.gov using the “elibrary” link. Enter the docket number (P-2601) in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202)502-6595 or OPP@ferc.gov.

For further information, contact Michael Calloway at 202-502-8041 or Michael.calloway@ferc.gov.

Dated: November 12, 2024.
Debbie-Anne A. Reese,
Secretary.

[FR Doc. 2024-26823 Filed 11-15-24; 8:45 am]

BILLING CODE 6717-01-P